ENVIRONMENTAL PROTECTION AGENCY

40 CFR Part 52

[WV038/053-6026b; FRL-7500-1]

Approval and Promulgation of Air Quality Implementation Plans; West Virginia; Regulation To Prevent and Control Air Pollution from the Emission of Sulfur Oxides

AGENCY: Environmental Protection Agency (EPA).

ACTION: Proposed rule.

SUMMARY: EPA proposes to approve the State Implementation Plan (SIP) revision submitted by the State of West Virginia for the purpose of establishing regulations to prevent and control air pollution from the emission of sulfur oxides. In the final rules section of this Federal Register, EPA is approving the State's SIP submittal as a direct final rule without prior proposal because the Agency views this as a noncontroversial submittal and anticipates no adverse comments. A more detailed description of the state submittal and EPA's evaluation are included in a Technical Support Document (TSD) prepared in support of this rulemaking action. A copy of the TSD is available, upon request, from the EPA Regional Office listed in the ADDRESSES section of this document. If no adverse comments are received in response to this action, no further activity is contemplated. If EPA receives adverse comments, the direct final rule will be withdrawn and all public comments received will be addressed in a subsequent final rule based on this proposed rule. EPA will not institute a second comment period. Any parties interested in commenting on this action should do so at this time.

DATES: Comments must be received in writing by July 3, 2003.

ADDRESSES: Written comments should be addressed to Makeba Morris, Branch Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103, and the West Virginia Department of Environmental Protection, Division of Air Quality, 7012 MacCorkle Avenue, S.E., Charleston, WV 25304-2943.

FOR FURTHER INFORMATION CONTACT: Jill Webster (215) 814-2033, or Ellen Wentworth (215) 814-2034, or by e-mail at webster.jill@epa.gov. or wentworth.ellen@epa.gov.

SUPPLEMENTARY INFORMATION: For further information, please see the information provided in the direct final action of West Virginia's regulation to Prevent and Control Air Pollution from the Emission of Sulfur Oxides, that is located in the “Rules and Regulations” section of this Federal Register publication.

Dated: May 8, 2003.
James W. Newsom,
Acting Regional Administrator, Region III.

[FR Doc. 03-13703 Filed 6-2-03; 8:45 am]

BILLING CODE 6560-50-P